ENVIRONMENTAL PROTECTION AGENCY

[EPA-HQ-OAR-2012-0333; FRL-9946-96-OEI]

Information Collection Request Submitted to OMB for Review and Approval; Comment Request; Greenhouse Gas Reporting Program (Renewal)

AGENCY: Environmental Protection Agency (EPA).

ACTION: Notice.

SUMMARY: The Environmental Protection Agency (EPA) has submitted an information collection request (ICR), “Greenhouse Gas Reporting Program (Renewal)” (EPA ICR No. 2300.17, OMB Control No. 2060-0629) to the Office of Management and Budget (OMB) for review and approval in accordance with the Paperwork Reduction Act (44 U.S.C. 3501 et seq.). This is a proposed extension of the ICR, which is currently approved through May 31, 2016. Public comments were previously requested via the Federal Register (80 FR 68534) on November 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 24, 2016.

ADDRESSES: Submit your comments, referencing Docket ID Number EPA-HQ-OAR-2012-0333, to (1) EPA online using www.regulations.gov (our preferred method), by email to A-and-R-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Carole Cook, Climate Change Division, Office of Atmospheric Programs (MC-6207A), Environmental Protection Agency, 1200 Pennsylvania Ave. NW., Washington, DC 20460; telephone number: (202) 343-9263; fax number: (202) 343-2342; email address: GHGReporting@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: In response to the FY2008 Consolidated Appropriations Act (H.R. 2764; Pub. L. 110-161) and under authority of the Clean Air Act, the EPA finalized the Mandatory Reporting of Greenhouse Gases Rule (GHG Reporting Rule) (74 FR 56260; October 30, 2009). The GHG Reporting Rule, which became effective on December 29, 2009, establishes reporting requirements for certain large facilities and suppliers. It does not require control of greenhouse gases. Instead, it requires that sources emitting above certain threshold levels of carbon dioxide equivalent (CO2e) monitor and report emissions.

Subsequent rules have promulgated requirements for additional facilities, suppliers, and mobile sources; provided clarification and corrections to existing requirements; finalized confidentiality business information (CBI) determinations, amended recordkeeping requirements, and implemented an alternative verification approach. Collectively, the GHG Reporting Rule and its associated rulemakings are referred to as the Greenhouse Gas Reporting Program (GHGRP).

The purpose for this ICR is to renew and revise the GHG Reporting Rule ICR to update the burden and cost imposed by the current ICR under the GHGRP.

Form Numbers: None.

Respondents/affected entities: The respondents in this information collection include owners and operators of facilities that must report their GHG emissions and other data to EPA to comply with the rulemaking. To facilitate the analysis, EPA has divided respondents into groups that align with the source categories identified in the rule.

Reporting facilities include, but are not limited to, those operating one or more units that exceed the CO2e threshold for the industry sectors listed in Table A-4 of 40 CFR 98.2(a)(2) or those in the categories in which all must report, such as petroleum refining facilities and all other large emitters listed in Table A-3 of 40 CFR 98.2(a)(1). Additionally, the GHGRP requires reporting of GHGs from certain suppliers as listed in Table A-5 of 40 CFR 98.2(a)(4) and of certain emissions information associated with mobile sources (e.g., for permit applications or emissions control certification testing procedures).

Respondent's Obligation To Respond: Mandatory (Sections 114 and 208 of the Clean Air Act provide EPA authority to require the information mandated by the Greenhouse Gas Reporting Program because such data will inform and are relevant to future policy decisions).

Estimated Number of Respondents: 11,080 (total).

Frequency of Response: Annual.

Total Estimated Burden: 739,187 hours (per year). Burden is defined at 5 CFR 1320.03(b).

Total Estimated Cost: $99,831,931 per year, which includes $30,621,791 for capital investment and operation and maintenance costs for respondents, labor cost of $57,210,010 for respondents, and $12,000,130 for the EPA.

Changes in the Estimates: This change in burden reflects an update in the number of respondents, an adjustment of labor rates to 2014 Bureau of Labor and Statistics (BLS) labor rates, an adjustment of capital costs to reflect 2013 dollars, a re-evaluation of the costs to monitor and report combustion emissions across the entire program, a re-evaluation of the activities and costs associated with Petroleum and Natural Gas Systems (Subpart W) and Geologic Sequestration of Carbon Dioxide (Subpart RR), and the addition of new segments and new reporters under Subpart W.

Courtney Kerwin,
Acting Director, Collection Strategies Division.

[FR Doc. 2016-12310 Filed 5-24-16; 8:45 am]

BILLING CODE 6560-50-P